DEPARTMENT OF ENERGY

Federal Energy Regulatory Commission

[Docket No. RP02-379-001]

CMS Trunkline LNG Company, LLC; Notice of Compliance Filing

August 21, 2002.

Take notice that on August 12, 2002, CMS Trunkline LNG Company, LLC (TLNG) tendered for filing as part of its FERC Gas Tariff, First Revised Volume No. 1-A, the following tariff sheet to be effective August 1, 2002.

Sub Second Revised Sheet No. 5

This filing is made in compliance with the Commission's July 31, 2002 order in this docket. The revised tariff sheet reflects a 0.10% increase to the currently effective fuel reimbursement percentage and a $0.0045 per Dt increase for the electric power cost adjustment under Rate Schedules FTS and ITS.

TLNG states that a copy of this filing is available for public inspection during regular business hours at TLNG's office at 5444 Westheimer Road, Houston, Texas 77056-5306. In addition, copies of this filing are being served on all affected customers, interested state regulatory agencies and parties to this proceeding.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For Assistance, call (202)502-8222 or for TTY, (202) 208-1659. Comments, protests and interventions may be filed electronically via the Internet in lieu of paper. See, 18 CFR 385.2001(a)(1)(iii) and the instructions on the Commission's Web site under the “e-Filing” link. The Commission strongly encourages electronic filings.

Linwood A. Watson, Jr.,
Deputy Secretary.

[FR Doc. 02-21858 Filed 8-27-02; 8:45 am]

BILLING CODE 6717-01-P